INTERNATIONAL TRADE COMMISSION

[USITC SE-07-009]

Government in the Sunshine Act Meeting Notice

Agency Holding the Meeting: United States International Trade Commission.

Time and Date: May 31, 2007 at 11 a.m.

Place: Room 101, 500 E Street SW., Washington, DC 20436, Telephone: (202) 205-2000.

Status: Open to the public.

Matters to be Considered:

1. Agenda for future meetings: none.

2. Minutes.

3. Ratification List.

4. Inv. Nos. 731-TA-711 and 713-716 (Second Review)(Oil Country Tubular Goods from Argentina, Italy, Japan, Korea, and Mexico)—briefing and vote. (The Commission is currently scheduled to transmit its determination and Commissioners' opinions to the Secretary of Commerce on or before June 15, 2007.)

5. Outstanding action jackets: none.

In accordance with Commission policy, subject matter listed above, not disposed of at the scheduled meeting, may be carried over to the agenda of the following meeting.

By order of the Commission.
Issued: May 24, 2007.
Marilyn R. Abbott,
Secretary to the Commission.

[FR Doc. E7-10291 Filed 5-25-07; 8:45 am]

BILLING CODE 7020-02-P